ENVIRONMENTAL PROTECTION AGENCY

[FRL-6945-4]

Agency Information Collection Activities; OMB Responses

AGENCY: Environmental Protection Agency (EPA).

ACTION: Notice.

SUMMARY: This document announces the Office of Management and Budget's (OMB) responses to Agency clearance requests, in compliance with the Paperwork Reduction Act (44 U.S.C. 3501 et seq.). An agency may not conduct or sponsor, and a person is not required to respond to, a collection of information unless it displays a currently valid OMB control number. The OMB control numbers for EPA's regulations are listed in 40 CFR part 9 and 48 CFR Chapter 15.

FOR FURTHER INFORMATION CONTACT: Sandy Farmer at 260-2740, or email at Farmer.sandy@epa.gov, and please refer to the appropriate EPA Information Collection Request (ICR) Number.

SUPPLEMENTARY INFORMATION:

OMB Responses to Agency Clearance Requests

OMB Approvals

EPA ICR No. 1953.02; Best Management Practices Alternatives, Effluent Limitations Guidelines and Standards, Oil and Gas Extraction Point Source Category; in 40 CFR part 435; was approved 01/02/2001; OMB No. 2040-0230; expires 01/31/2004.

EPA ICR No. 1755.04; Regulatory Reinvention Pilots (Project XL) Amendment: Proposed Rule for US Filter Recovery Services; in 40 CFR parts 262-265, 268, 270, 273, and 279; was approved 01/08/2001; OMB No. 2010-0026; expires 02/28/2002.

EPA ICR No. 1948.02; National Primary Drinking Water Regulations: Arsenic and Clarifications to Compliance and New Source Contaminants Monitoring; in 40 CFR part 141; was approved 01/018/2001; OMB No. 2040-0231; expires 01/31/2004.

EPA ICR No. 1907.02; Recordkeeping and Reporting Requirements Regarding the Sulfur Content of Motor Vehicle Gasoline under the Tier 2 Rule; in 40 CFR part 80, 40 CFR part 86; as approved 01/18/2001; OMB No. 2060-0437; expires 01/31/2004.

EPA ICR No. 1926.02; Reporting and Recordkeeping Requirements for Standards of Performance for New Stationary Sources: Commercial and Industrial Solid Waste Incineration (CISWI) Units; in 40 CFR part 60, subpart CCCC; as approved 01/18/2001; OMB No. 2060-0450; expires 01/31/2004.

EPA ICR No. 1927.02; Reporting and Recordkeeping Requirements for the Emission Guidelines for Existing Commercial and Industrial Solid Waste Incineration (CISWI) Units; in 40 CFR part 60, subpart DDDD; was approved 01/18/2001; expires 01/31/2004.

EPA ICR No. 1704.05; Alternate Threshold for Low Annual Reportable Amounts; Toxic Chemical Release Reporting; in 40 CFR part 372; was approved 01/18/2001; OMB No. 2070-0143; expires 01/31/2003.

EPA ICR No. 1924.02; Hazardous Waste Listing for Chlorinated Aliphatics Production Wastes; in 40 CFR part 268.7, 40 CFR part 261.32 and, 40 CFR 264.73(b)(3); was approved 01/18/2001; OMB No. 2050-0173; expires 01/31/2004.

EPA ICR No. 1854.02; Reporting and Recordkeeping Requirements of the Consolidated Federal Air Rule for the Synthetic Organic Chemical Manufacturing Industry; in 40 CFR part 60, subparts Ka, Kb, VV, DDD, III, NNN, RRR, 40 CFR part 61, subparts V, Y, and BB, and 40 CFR part 63, subparts F, G, and H; was approved 01/19/2001; OMB No. 2060-0443; expires 01/31/2004.

EPA ICR No. 1572.05; Hazardous Waste Specific Unit Requirements, and Special Waste Processes and Types; in 40 CFR parts 261, 264, 265 and 266; was approved 12/22/2000; OMB No. 2050-0050; expires 12/31/2003.

EPA ICR No. 1959.01; National Listing of Advisories/Fish and Wildlife Advisories; was approved 01/23/2001; OMB No. 2040-0226; expires 01/31/2004.

EPA ICR No. 0597.07; Tolerance Petitions for Pesticides on Food/Feed Crops and New Inert Ingredients; in 40 CFR parts 177 and 180; was approved 01/23/2001; OMB No. 2070-0024; expires 01/31/2003.

EPA ICR No. 1214.05; Pesticide Product Registration Maintenance Fee; was approved 01/23/2001; OMB No. 2070-0100; expires 01/31/2004.

EPA ICR No. 0616.07; Compliance Requirements for Child Resistant Packaging; in 40 CFR part 157; was approved 01/23/2001; OMB No. 2070-0052; expires 01/31/2004.

EPA ICR No. 1790.02; NESHAP for Phosphoric Acid Manufacturing and Phosphate Fertilizers Production, in 40 CFR part 63, subparts AA and BB; was approved 01/24/2001; OMB No. 2060-0361; expires 01/31/2004.

EPA ICR No. 1066.03; NSPS for Ammonium Sulfate Manufacturing Plants; in 40 CFR part 60, subpart PP; was approved 01/24/2001; OMB No. 2060-0032; expires 01/31/2004.

EPA ICR No. 1797.02; NSPS for Petroleum Liquids for which Construction, Reconstruction, or Modification Commenced after June 11; in 40 CFR part 60, subpart K; was approved 01/24/2001; expires 01/31/2004.

EPA ICR No. 1056.07; NSPS for Nitric Acid Plants, in 40 CFR part 60, subpart G; was approved 01/24/2001; OMB No. 2060-0019; expires 01/31/2004.

EPA ICR No. 1678.04; NESHAP for Magnetic Tape Manufacturing Operations; in 40 CFR part 63, subpart EE; was approved 01/24/2001; OMB No. 2060-0326; expires 01/31/2004.

EPA ICR No. 1783.02; MACT—Flexible Polyurethane Form Product; in 40 CFR part 63, subpart III; was approved 01/24/2001; OMB No. 2060-0357; expires 01/31/2004.

EPA ICR No. 1664.04; The National Oil and Hazardous Substances Pollution Contingency Plan; in 40 CFR part 300.900, subpart J; was approved 01/24/2001; OMB No. 2050-0141; expires 01/31/2004.

EPA ICR No. 1799.02; NESHAP/MACT Mineral Wool Production; in 40 CFR part 63, subpart DDD; was approved 01/24/2001; OMB No. 2060-0362; expires 01/31/2004.

EPA ICR No. 1717.03; NESHAP for Site Waste and Recovery Operations; in 40 CFR part 63, subpart DD; was approved 01/24/2001; OMB No. 2060-0313; expires 01/31/2004.

Short Term Extensions

EPA ICR No. 1056.06; NSPS FOR Nitric Acid Plants; in 40 CFR part 60, subpart G; OMB No. 2060-0019; on 10/26/2000 OMB extended the expiration date through 01/31/2001.

EPA ICR No. 1012.06; Polychlorinated Biphenyls (PCBs) Disposal Permitting Regulation; in 40 CFR part 761; OMB No. 2070-0011; on 11/22/2000 OMB extended the expiration date through 03/31/2001.

EPA ICR No. 1503.03; Data Acquisition for Registration; in 40 CFR part 158; OMB No. 2070-0122; on 12/22/2000 OMB extended the expiration date through 03/31/2001.

EPA ICR No. 0586.08; Preliminary Assessment Information Rule (PAIR)—TSCA Section 8(a); in 40 CFR part 712; OMB No. 2070-0054; on 12/22/2000 OMB extended the expiration date through 03/31/2001.

Comments Filed

EPA ICR No. 1968.01; Hazardous Waste Listings for Wastes from the Production of Inorganic Chemicals; in 40 CFR part 261; on 01/18/2001 OMB filed a comment under comment No. 2050-0174. Note, this is not an OMB approval number.

EPA ICR No. 1974.01; NESHAP for Cellulose Products Manufacturing; in 40 CFR part 63, subpart A, G, and H; on 01/24/2001 OMB file a comment under comment No. 2060-0444. Note, this is not an OMB approval number.

EPA ICR No. 1964.01; Reporting and Recordkeeping Requirements of the NESHAP from Wet-formed Fiberglass; on 01/24/2001 OMB file a comment under comment No. 2060-0440. Note, this is not an OMB approval number.

Comment Filed and Continue

EPA ICR No. 1189.08; Requirements for Zinc Fertilizers Made from Recycled Hazardous Secondary Materials (Proposed Rule); in 40 CFR part 261.4; OMB No. 2050-0052; on 01/18/2001 OMB filed a comment/continue action pending review of the final rule.

Withdrawal/Continue

EPA ICR No. 1363.09; Toxic Chemical Release Reporting, Recordkeeping, Supplier Notification and Petitions under Section 313 of the Emergency Planning and Community Right-to-Know Act (EPRA); in 40 CFR part 372; on 01/18/2001 OMB's action reads: This ICR is withdrawn because there is already an approved ICR for this collection that authorizes the collection through 01/31/2003.

Dated: February 9, 2001.
Oscar Morales,
Director, Collection Strategies Division.

[FR Doc. 01-3985 Filed 2-15-01; 8:45 am]

BILLING CODE 6560-50-P